DEPARTMENT OF HOMELAND SECURITY

U.S. Citizenship and Immigration Services

[CIS No. 2734-22; DHS Docket No. USCIS-2015-0003]

RIN 1615-ZB74

Reconsideration and Rescission of Termination of the Designation of Nepal for Temporary Protected Status; Extension of the Temporary Protected Status Designation for Nepal

AGENCY: U.S. Citizenship and Immigration Services (USCIS), Department of Homeland Security (DHS).

ACTION: Notice of Reconsideration and Rescission of Termination of the Designation of Nepal for Temporary Protected Status (TPS) and Notice of Extension of TPS Designation for Nepal.

SUMMARY: Through this notice, the Department of Homeland Security (DHS) announces that the Secretary of Homeland Security (Secretary) is rescinding the previous termination of the designation of Nepal for TPS, which was published on May 22, 2018 and extending the designation of Nepal for Temporary Protected Status (TPS) for 18 months, beginning on December 25, 2023, and ending on June 24, 2025. This extension allows existing TPS beneficiaries to retain TPS through June 24, 2025, so long as they otherwise continue to meet the eligibility requirements for TPS. Existing TPS beneficiaries who wish to extend their status through June 24, 2025, must re-register during the 60-day re-registration period as described in this notice.

DATES: The Rescission of Termination of the Designation of Nepal for TPS is effective took effect June 9, 2023.

Extension of Designation of Nepal for TPS: The 18-month extension of TPS for Nepal begins on December 25, 2023 and will remain in effect through June 24, 2025. The extension impacts existing beneficiaries of TPS under the designation of Nepal.

Re-registration: The 60-day re-registration period for existing beneficiaries runs from October 24, 2023 through December 23, 2023.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 800-375-5283.

• For further information on TPS, including guidance on the registration process and additional information on eligibility, please visit the USCIS TPS web page at https://www.uscis.gov/tps. You can find specific information about Nepal's TPS designation by selecting Nepal from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at uscis.gov, or visit the USCIS Contact Center at https://www.uscis.gov/contactcenter.

• Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Purpose of This Action (TPS)

Through this notice, DHS announces the reconsideration and rescission of the termination of the designation of Nepal for TPS, and the Secretary's decision to extend Nepal's designation for TPS for 18 months from December 25, 2023 through June 24, 2025. This notice also sets forth procedures necessary for nationals of Nepal (or individuals having no nationality who last habitually resided in Nepal) to re-register for TPS and to apply for renewal of their EADs with USCIS.

Re-registration is limited to individuals who have previously registered or reregistered for TPS under Nepal's designation, whose applications were granted, and whose TPS has not been withdrawn for individual ineligibility for the benefit. Failure to re-register properly within the 60-day re-registration period may result in the withdrawal of your TPS following appropriate procedures. See 8 CFR 244.14.

For individuals who have already been granted TPS under Nepal's designation, the 60-day re-registration period runs from October 24, 2023 through December 23, 2023. USCIS will issue new EADs with a June 24, 2025 expiration date to eligible Nepalese TPS beneficiaries who timely re-register and apply for EADs.

Individuals who have a Nepal TPS application (Form I-821) and Application for Employment Authorization (Form I-765) that were still pending as of June 21, 2023 do not need to file either application again. If USCIS approves an individual's pending Form I-821, USCIS will grant the individual TPS through June 24, 2025. Similarly, if USCIS approves a pending TPS-related Form I-765 filed in connection with a Form I-821, USCIS will issue the individual a new EAD that will be valid through the same date. If you have TPS and only a pending Form I-765, you must file the Form I-821 to reregister for TPS or risk having your TPS withdrawn for failure to timely reregister without good cause. There are currently approximately 14,500 beneficiaries under Nepal's TPS designation who may be eligible to continue their TPS under the extension announced in this Notice.

What is Temporary Protected Status (TPS)?

• TPS is a temporary immigration status granted to eligible nationals of a foreign state designated for TPS under the INA, or to eligible individuals without nationality who last habitually resided in the designated foreign state before arrival in the United States, regardless of their country of birth.

• During the TPS designation period, TPS beneficiaries are eligible to remain in the United States, may not be removed, and are authorized to obtain EADs so long as they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

When was Nepal designated for TPS?

On June 24, 2015, former Secretary of Homeland Security Jeh Johnson designated Nepal for TPS on environmental disaster grounds as a result of the magnitude 7.8 earthquake that occurred on April 25, 2015 that resulted in a substantial disruption of living conditions, at the request of the country's government, and because Nepal was temporarily unable to adequately handle the return of its nationals. See Designation of Nepal for Temporary Protected Status, 80 FR 36346 (June 24, 2015). On October 26, 2016, former Secretary Johnson announced an 18-month extension of Nepal's TPS designation, effective December 25, 2016 through June 24, 2018.¹

¹ Extension of the Designation of Nepal for Temporary Protected Status, 81 FR 74470 (October 26, 2016).

Following the statutorily required review of the country conditions, former Secretary Kirstjen M. Nielsen announced the termination of TPS for Nepal, with an effective date of June 24, 2019. See Termination of the Designation of Nepal for Temporary Protected Status, 83 FR 23705 (May 22, 2018); see also INA secs. 244(b)(3)(A) and (B), 8 U.S.C. 1254a(b)(3)(A) and (B). As discussed below, this termination has been the subject of litigation and a court order that has prevented the termination from taking effect.

Litigation Background Regarding Termination of Certain TPS Designations

In addition to Nepal, in 2017-2018, TPS was also terminated for five other countries by the Secretary or Acting Secretary: Sudan, El Salvador, Haiti, Nicaragua, and Honduras.² Lawsuits challenging the terminations were filed in the U.S. District Court for the Northern District of California in Ramos v. Nielsen, 326 F. Supp. 3d 1075 (N.D. Cal. 2018), and Bhattarai v. Nielsen, No. 19-cv-00731 (N.D. Cal. Mar. 12, 2019), and in the U.S. District Court for the Eastern District of New York in Saget v. Trump, 375 F. Supp 3d 280 (E.D.N.Y. 2019).³ In Ramos, the district court granted a preliminary injunction enjoining the terminations of TPS for El Salvador, Haiti, Sudan, and Nicaragua and directed DHS to maintain the status quo and to continue the TPS and TPS-related documentation of affected TPS beneficiaries under those countries' designations. The U.S. Government appealed, and a three-judge panel vacated the injunction. The appellate court, however, has granted rehearing en banc of the panel decision, vacating the panel's decision.⁴ The district court's preliminary injunction thus remains in place. In Bhattarai—which challenged the determination to terminate TPS for Nepal—the district court has stayed proceedings until the Ramos appeal is decided and approved the parties' stipulation for the continuation of TPS and TPS-related documentation for eligible, affected beneficiaries of TPS for Honduras and Nepal during the stay and pendency of the Ramos appeal. In Saget, the district court granted a preliminary injunction enjoining termination of TPS for Haiti, and the Government appealed. However, following the new TPS designation of Haiti in August 2021, the district court dismissed the lawsuit based on the parties' stipulation to dismissal.⁵ Beneficiaries under the TPS designations for El Salvador, Nepal, Sudan, Haiti, Honduras, and Nepal will retain their TPS while the preliminary injunction in Ramos remains in effect, and for at least 120 days thereafter, provided that their TPS is not withdrawn because of individual ineligibility.⁶

² Sudan (82 FR 47228) (Oct. 11, 2017), El Salvador (83 FR 2654) (Jan. 18, 2018), Haiti (83 FR 2648) (Jan. 18, 2018), Nicaragua (82 FR 59636) (Dec. 15, 2017), and Honduras (83 FR 26074) (June 05, 2018).

³ See Ramos v. Nielsen, 336 F. Supp. 3d 1075 (N.D. Cal. 2018), vacated, 975 F.3d 872 (9th Cir. 2020), reh'g en banc granted, 59 F.4th 1010 (Feb. 10, 2023) (No. 18-16981) (“Ramos”).; Bhattarai v. Nielsen, No. 19-cv-00731 (N.D. Cal. Mar. 12, 2019) (staying proceedings until Ramos appeal decided and approved parties' stipulation for continued TPS and issuance of TPS-related documentation to eligible, affected beneficiaries of TPS for Honduras and Nepal during the stay and pendency of the appeal). In 2019, the U.S. District Court for the Eastern District of New York also enjoined the termination of the 2011 TPS designation for Haiti in Saget v. Trump, 375 F. Supp. 3d 280 (E.D.N.Y. 2019), and DHS cited to that order in previous notices continuing the affected beneficiaries' TPS and documentation. See, e.g., 86 FR 50725, 50726 (Sept. 10, 2021). However, the Saget case was dismissed upon the court's approval of the parties' joint Stipulation of Dismissal for mootness following the Secretary's new 18-month designation of Haiti for TPS on August 3, 2021, and DHS' continuation of existing beneficiaries' TPS and related documentation under the Ramos injunction through Dec. 31, 2022. See id., Order approving Stipulation of Dismissal, dated Oct. 15, 2021. Other litigation was filed relating to the terminations of El Salvador, Honduras, and Haiti. A Haiti-related case, NAACP v. U.S. Dept. of Homeland Security, No. 1:18-cv-00239 (D. Md., Jan. 24, 2018) was dismissed on May 22, 2021, subsequent to the same DHS designation. An El Salvador related case, Casa de Maryland., v. Biden, No. GJH-18-00845 (D. Md., Mar. 23, 2018), is currently stayed until April 17, 2023. Centro Presente v. Biden, No. 1:18-cv-10340 (D. Mass, July 23, 2018), relating to El Salvador, Haiti, and Honduras, is currently stayed until April 14, 2023.

⁴ See Ramos v. Wolf, 975 F.3d 872 (9th Cir. 2020), petition for reh'g en banc granted, 59 F.4th 1010 (Feb. 10, 2023) (No. 18-16981) (“Ramos”).

⁵ See Saget v. Trump, 375 F. Supp 3d 280 (E.D.N.Y. 2019) and Order approving Stipulation of Dismissal, dated Oct. 15, 2021.

⁶ As noted, Haiti was newly designated for TPS on August 3, 2021 for 18 months. See Designation of Haiti for Temporary Protected Status, 86 FR 41863 (Aug. 3, 2021). On April 19, 2022, the Secretary also newly designated Sudan TPS. See Designation of Sudan for Temporary Protected Status, 87 FR 23202 (Apr. 19, 2022). Those designations cover all Haitian and Sudanese nationals who were eligible for TPS under the Haiti and Sudan TPS designations that were terminated in 2018 and 2017, respectively.

DHS has taken actions to ensure its continued compliance with the court orders in Ramos and Bhattarai. DHS has published periodic notices to continue TPS and extend the validity of TPS-related documentation previously issued to beneficiaries under the TPS designations for El Salvador, Haiti, Nepal, Sudan, Honduras, and Nepal.⁷ The most recent such notice continued TPS and extended the TPS-related documents specified in the notice through June 30, 2024.⁸ These extensions apply where the TPS beneficiary properly filed for re-registration during either the most recent DHS-announced registration period for their country, or any applicable previous DHS-announced re-registration periods for the beneficiary's country, or has a re-registration application that remains pending.⁹ Although the notice published at 87 FR 68717 remains valid, individuals who wish to remain eligible for TPS under the extension of TPS for Nepal announced in this notice through June 24, 2025 and any potential future extensions must apply for re-registration in accordance with the procedures announced in this notice.¹⁰ Failure to timely re-reregister without good cause is a ground for TPS withdrawal. See INA section 244(c)(3)(C), 8 U.S.C. 1254a(c)(3)(C); 8 CFR 244.17.

⁷ 83 FR 54764 (Oct. 31, 2018); 84 FR 7103 (Mar. 1, 2019); 84 FR 20647(May 10, 2019) (correction notice issued at 84 FR 23578 (May 22, 2019)); 84 FR 59403 (Nov. 4, 2019); 85 FR 79208 (Dec. 9, 2020); and 86 FR 50725 (Sept. 10, 2021) (correction notice issued at 86 FR 52694 (Sept. 22, 2021).

⁸ Continuation of Documentation for Beneficiaries of Temporary Protected Status Designations of El Salvador, Haiti, Nicaragua, Sudan, Honduras, and Nepal, 87 FR 68717 (Nov. 16, 2022).

⁹ Id., at 68719 note 5 (listing acceptable re-registration periods for each of the 6 countries).

¹⁰ Through the re-registration process, which is generally conducted every 12 to 18 months while a foreign state is designated for TPS, USCIS determines whether each TPS beneficiary is continuing to maintain individual eligibility for TPS, including but not limited to the requirements related to disqualifying criminal or security issues. Continuation of Documentation for Beneficiaries of Temporary Protected Status Designations for El Salvador, Haiti, Nicaragua, Sudan, Honduras, and Nepal, 87 FR 68717, 68720 (Nov. 16, 2022) (noting potential future action for Nepal TPS beneficiaries may include a requirement to re-register).

What authority does the Secretary have to reconsider and rescind the termination of TPS for Nepal?

Section 244(b)(1) of the INA, 8 U.S.C. 1254a(b)(1), authorizes the Secretary, after consultation with appropriate agencies of the U.S. Government, to designate a foreign state (or part thereof) for TPS if the Secretary determines that certain country conditions exist.¹¹ The decision to designate any foreign state (or part thereof) is a discretionary decision, and there is no judicial review of any determination with respect to the designation, termination, or extension of a designation. See INA section 244(b)(5)(A); 8 U.S.C. 1254a(b)(5)(A).

¹¹ Although the text of INA section 244(b)(1) continues to ascribe this power to the Attorney General, this authority is now held by the Secretary of Homeland Security by operation of the Homeland Security Act of 2002, Public Law 107-296, 116 Stat. 2135. See, e.g., 6 U.S.C. 557; Nielsen v. Preap, 139 S. Ct. 954, 959 n.2 (2019). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA section 244(b)(1).

At least 60 days before the expiration of a foreign state's TPS designation, the Secretary, after consultation with appropriate U.S. Government agencies, must review the conditions in the foreign state designated for TPS to determine whether they continue to meet the conditions for the TPS designation. See INA section 244(b)(3)(A), 8 U.S.C. 1254a(b)(3)(A). If the Secretary determines that the foreign state no longer meets the conditions for TPS designation, the Secretary must terminate the designation. See INA section 244(b)(3)(B), 8 U.S.C. 1254a(b)(3)(B). If the Secretary does not determine that the foreign state no longer meets the conditions for TPS designation, the designation is extended for an additional period of 6 months or, in the Secretary's discretion, 12 or 18 months. See INA section 244(b)(3)(A), (C); 8 U.S.C. 1254a(b)(3)(A), (C).

On May 22, 2018, the Secretary of Homeland Security issued notice of her decision that Nepal no longer continued to meet the conditions for TPS designation and terminated TPS for Nepal, indicating that the conditions for Nepal's 2015 designation for TPS on the basis of environmental disaster due to the damage caused by the 2015 earthquake were no longer met.¹² The Secretary also announced an orderly transition period of 12 months, such that the termination was set to go into effect on June 24, 2019. However, as noted above plaintiffs in Bhattarai filed suit challenging the termination decisions for Nepal and Honduras. On March 12, 2019, the proceedings were stayed and the parties stipulated that the termination decisions would not go into effect during the pendency of the Ramos appeal of similar issues and for at least 120 days thereafter. The district court also approved the parties' stipulation that TPS and TPS-related documentation of affected beneficiaries of the Nepal and Honduras TPS designations would continue under terms similar to those applied to the Ramos-covered beneficiaries. The order to stay proceedings and approval of the stipulation remain in effect.¹³

¹² Termination of the Designation of Nepal for Temporary Protected Status, 83 FR 23705 (May 22, 2018).

¹³ Bhattarai v. Nielsen, No. 19-cv-00731 (N.D. Cal. Mar. 12, 2019).

DHS has since issued a series of Federal Register notices continuing TPS and TPS-related documentation for affected TPS beneficiaries, with the most recent continuation notice effective through until June 30, 2024.¹⁴ As a result, the termination of the TPS designation for Nepal has never gone into effect, and TPS beneficiaries under that designation have retained their TPS, unless it has been individually withdrawn pursuant to INA § 244(c)(3), 8 U.S.C. 1254a(c)(3).

¹⁴ See 84 FR 20647 (May 10, 2019) (correction notice issued at 84 FR 23578 (May 22, 2019)); (Nov. 4, 2019); (Dec. 9, 2020); and 86 FR 50725 (Sept. 10, 2021) (correction notice issued at 86 FR 52694 (Sept. 22, 2021)); and 87 FR 68717 (Nov. 16, 2022). DHS had published previous notices to comply with the earlier preliminary injunction order issued by the Ramos court. See 83 FR 54764 (Oct. 31, 2018); 84 FR 7103 (March 1, 2019).

An agency has inherent (i.e. statutorily implicit) authority to revisit its prior decisions unless Congress has expressly limited that authority.¹⁵ The TPS statute does not limit the Secretary's inherent authority to reconsider any TPS-related determination, and upon reconsideration, to change the determination. See INA sections 244(b)(3), (b)(5)(A); 8 U.S.C. 1254a(b)(3), (b)(5)(A).

¹⁵ Ivy Sports Medicine, LLC v. Burwell, 767 F.3d 81, 86 (D.C. Cir. 2014) (Kavanaugh, J.); see, e.g., id. (“[A]dministrative agencies are assumed to possess at least some inherent authority to revisit their prior decisions, at least if done in a timely fashion. . . . “[I]nherent authority for timely administrative reconsideration is premised on the notion that the power to reconsider is inherent in the power to decide.” (quotation marks and citations omitted)); NRDC v. Regan, 67 F.4th 397, 401 (D.C. Cir. 2023) (“[A]lthough the power to decide is normally accompanied by the power to reconsider, Congress undoubtedly can limit an agency's discretion to reverse itself.” (quotation marks omitted); Macktal v. Chao, 286 F.3d 822, 825-26 (5th Cir. 2002) (“It is generally accepted that in the absence of a specific statutory limitation, an administrative agency has the inherent authority to reconsider its decisions.”) (collecting cases); Mazaleski v. Treusdell, 562 F.2d 701, 720 (D.C. Cir. 1977) (“We have many times held that an agency has the inherent power to reconsider and change a decision if it does so within a reasonable period of time.”); see also Last Best Beef, LLC v. Dudas, 506 F.3d 333, 340 (4th Cir. 2007) (agencies possess especially “broad authority to correct their prior errors”).

Why is the Secretary rescinding the previous termination of the TPS designation for Nepal?

After conducting an independent assessment of the country conditions in Nepal as they existed in 2018 and exist today, the Secretary has determined that Nepal's 2015 TPS designation should not have been terminated. As explained below, the conditions in Nepal that gave rise to its TPS designation in 2015 persisted in 2018 and persist to this day. Accordingly, the Secretary is, upon reconsideration, rescinding the 2018 decision terminating Nepal's TPS designation and extending that designation for an additional 18 months.

On April 25, 2015, an earthquake of magnitude 7.8 struck Nepal, with the epicenter approximately 77 to 81 kilometers (km) northwest of Kathmandu, Nepal's capital.¹⁶ Dozens of aftershocks followed, including one of magnitude 7.3 on May 12, 2015.¹⁷ Over 8 million people—roughly 25% to 33% of Nepal's population—were affected in 39 of Nepal's 75 districts.¹⁸ Over 2 million people lived in the 11 most critically hit districts.¹⁹ In these districts, half of the population was estimated to be affected.²⁰ In response, Nepal was designated for TPS for 18 months effective June 24, 2015.²¹

¹⁶ More than 1900 killed by 7.8 magnitude quake in Nepal, Washington Post, Apr. 26, 2015, available at: https://www.washingtonpost.com/world/magnitude-79-earthquake-hits-densely-populated-area-of-nepal/2015/04/25/1c1b3f46-eb21-11e4-9a6a-c1ab95a0600b_story.html (last visited Mar. 10, 2023); UN Nepal Earthquake Flash Appeal, U.N. Development Program, Jul. 28, 2017, available at: https://www.undp.org/publications/un-nepal-earthquake-flash-appeal; Nepal Earthquake Fact Sheet #8—May 4, 2015, U.S. Agency for International Development, May 4, 2015, available at: chrome-extension://efaidnbmnnnibpcajpcglclefindmkaj/https://2012-2017.usaid.gov/sites/default/files/documents/1866/nepal_eq_fs08_05-04-2015.pdf (last visited Mar. 10, 2023).

¹⁷ Deadly aftershock rocks Nepal, CBS News, May 14, 2015, available at: https://www.cbsnews.com/pictures/earthquake-rocks-nepal/ (last visited Mar. 10, 2023).

¹⁸ UN Nepal Earthquake Flash Appeal, U.N. Development Program, Jul. 28, 2017, available at: https://www.undp.org/publications/un-nepal-earthquake-flash-appeal (last accessed Mar. 10, 2023).

¹⁹ UN Nepal Earthquake Flash Appeal, U.N. Development Program, Jul. 28, 2017, available at: https://www.undp.org/publications/un-nepal-earthquake-flash-appeal (last accessed Mar. 10, 2023).

²⁰ UN Nepal Earthquake Flash Appeal, U.N. Development Program, Jul. 28, 2017, available at: https://www.undp.org/publications/un-nepal-earthquake-flash-appeal (last accessed Mar. 10, 2023).

²¹ Designation of Temporary Protected Status for Nepal, Federal Register, Jun. 24, 2015, available at: https://www.federalregister.gov/documents/2015/06/24/2015-15576/designation-of-nepal-for-temporary-protected-status (last visited Mar. 10, 2023).

At the time of the determination to terminate the designation of TPS, DHS found that Nepal had made progress in reconstruction and that the disruption in living conditions had decreased. While some progress had been made in these areas, Nepal continued to experience significant challenges due to the destruction caused by the earthquake and subsequent landslides that hampered reconstruction that were not sufficiently considered in the termination decision. These challenges include continued internal displacement and problems in allocation of reconstruction funds and assistance. Ongoing environmental disasters, like landslides, that Nepal continued to experience, were also not considered at the time of the termination decision. In 2017, Amnesty International found that delays in allocation of earthquake relief funds led to more than 70% of those living in the most seriously damaged districts continuing to live in temporary shelters.²² This lack of adequate protection from environmental changes negatively impacted the health of earthquake survivors.²³ In both 2017 and 2018, the Department of State reported that the most vulnerable populations, such as internally displaced people, stateless individuals, indigenous people, and a large number of children remained in camps or informal settlements and/or faced discrimination in receiving reconstruction assistance while also acknowledging the government promoted their safe, voluntary return and had policies in place to help them.²⁴ A comprehensive report from Human Rights Watch corroborated “the country is still far from recovery” and that “an already poor nation leaves its most impoverished citizens without the support that could, and should, be provided because of available resources.” ²⁵ The Kathmandu Post reported that “a debilitating shortfall of necessary funds, an initial shortage of reconstruction materials as a result of the unofficial border blockade, the absence of a central coordinating body, frequent changes in leadership, and the politicization of reconstruction have resulted in snail paced-recovery efforts.” ²⁶ A 2017 assessment on vulnerabilities found that Nepal lacks comprehensive social vulnerability analyses and mapping which would directly influence disaster preparedness.²⁷ The assessment also found that “Nepal's preparedness and policy interventions are not compatible with the existing hazard, exposure, and risk perception level” and this “leads to losses every year”.²⁸ In the weeks following the earthquake, more than 4,300 landslides were mapped using spaceborne and ground observations and the likelihood of landslides remained due to the cyclical monsoon season and unstable ground from the earthquake.²⁹ In fact, a 2017 study found that landslides triggered by large earthquakes contribute not only to earthquake losses but “pose a major secondary hazard that can persist for months or years.” ³⁰ Even while Nepal worked to reconstruct damaged infrastructure and homes, it continued to experience earthquake aftershocks until August 24, 2017.³¹ These assessments and reports highlight that while Nepal made some progress in reconstruction, it continued to face environmental obstacles at the time of the determination to terminate TPS that hindered meaningful progress.

²² Amnesty International, “Building Inequality”—The failure of the Nepali government to protect the marginalised in post-earthquake reconstruction efforts, April 25, 2017, https://www.ecoi.net/en/file/local/1398796/1226_1493194920_asa3160712017english.pdf (accessed on April 6, 2023).

²³ Id.

²⁴ Country Report on Human Rights Practices 2017—Nepal, U.S. Department of State, 20 April 2018, available at: https://www.ecoi.net/en/document/1430386.html (last visited April 6, 2023); Country Report on Human Rights Practices 2018—Nepal, U.S. Department of State, 13 March 2019, available at: https://www.ecoi.net/en/document/2004213.html (last visited Mar. 10, 2023).

²⁵ Tejshree Thapa, Lessons for Nepal, Three Years After Deadly Earthquake: Government Should Ensure Support for Survivors, Human Rights Watch, April 25, 2018, available at: https://www.hrw.org/news/2018/04/25/lessons-nepal-three-years-after-deadly-earthquake (last visited Mar. 10, 2023).

²⁶ Costs of Reconstruction, April 25, 2018, available at: https://kathmandupost.com/editorial/2018/04/25/costs-of-reconstruction, (last visited: Mar. 10, 2023).

²⁷ Gautam, Dipendra, Assessment of social vulnerability to natural hazards in Nepal, Natural Hazards and Earth System Sciences, Dec. 15, 2017, available at: https://nhess.copernicus.org/articles/17/2313/2017/nhess-17-2313-2017.pdf (last visited: April 10, 2023).

²⁸ Id.

²⁹ When the Earth Shook, NASA, Nov. 28, 2017, available at: https://appliedsciences.nasa.gov/our-impact/story/when-earth-shook (last visited: April 10, 2023).

³⁰ Jack Williams, et al., Satellite-based emergency mapping: Landslides triggered by the 2015 Nepal earthquake, Natural Hazards and Earth System Sciences, Jan. 16, 2018, available at: https://nhess.copernicus.org/preprints/nhess-2017-273/nhess-2017-273.pdf (last visited: April 10, 2023).

³¹ Nepal Disaster Report 2017, Government of Nepal-Ministry of Home Affairs, Dec. 2017, available at: http://drrportal.gov.np/uploads/document/1321.pdf (last visited: April 10, 2023).

The conditions in Nepal at the time of the TPS termination determination continued to substantially disrupt living conditions and negatively affected the country's ability to adequately handle the return of its nationals residing in the United States. At the time of the determination to terminate TPS, Nepal continued to experience challenges, including internal displacement, problems with reconstruction fund distribution, and ongoing environmental disasters, that were either insufficiently considered or not considered. The Secretary has concluded that reconsideration and rescission of the termination of TPS is timely, particularly given that the 2018 termination decision has not yet gone into effect.

What authority does the Secretary have to extend the designation of Nepal for TPS?

As noted above, section 244(b) of the INA, 8 U.S.C. 1254a(b), authorizes the Secretary, after consultation with appropriate agencies of the U.S. Government, to designate a foreign state (or part thereof) for TPS if the Secretary determines that certain country conditions exist and instructs the Secretary to periodically review the country conditions underpinning each designation and determined whether they still exist, leading to either termination or extension of the TPS designation. However, if the Secretary does not make a decision as to either extension or termination, then INA section 244(b)(3)(C) requires the automatic extension of the designation for six months (or 12 or 18 months in the Secretary's discretion).

Prior to the now-rescinded termination of the TPS designation for Nepal, the most recent extension of the designation was due to end on June 24, 2018.³² In light of the Secretary's reconsideration and rescission of the May 22, 2018 decision to terminate the TPS designation for Nepal, there is no longer any standing secretarial determination that Nepal “no longer meets the conditions for designation” under INA section 244(b)(1). Accordingly, with this rescission of the prior termination, pursuant to INA section 244(b)(3)(C), and in the absence of an affirmative decision by any Secretary to extend the designation for 12 or 18 months rather than the automatic six months triggered by the statute, the TPS designation for Nepal shall have been extended in consecutive increments of 6 months between the date when the last designation extension was due to end on June 24, 2018, and the effective date of the TPS extension announced in this notice, December 25, 2023. Coupled with the existing Bhattarai order and corresponding Federal Register notices continuing TPS and TPS-related documentation for affected beneficiaries under the designation for Nepal, this means that all such individuals whose TPS has not been finally withdrawn for individual ineligibility are deemed to have retained TPS since June 24, 2018 and may re-register under procedures announced in this notice.

³² See 81 FR 74470 (Oct. 26, 2016).

Why is the Secretary extending the TPS designation for 18 months through June 24, 2025?

While Nepal had been making progress on its recovery in the years immediately following the 2015 earthquake, subsequent environmental disasters, and the associated macroeconomic shocks, have impeded the recovery process.

There continues to be a substantial disruption of living conditions, including earthquakes and other environmental events that continue to inflict damage on a population that has still not fully recovered from the earthquake in 2015, and this has impacted Nepal's ability to adequately handle the return of its nationals. Recent earthquakes have caused considerable damage throughout Nepal and impeded or reversed the progress the country had made since the 2015 earthquake. On November 9, 2022, a 5.6 magnitude earthquake in Western Nepal killed six people living in mud and brick houses in Doti District, 430 kilometers (270 miles) west of Kathmandu and affected 200 families.³³ Shortly thereafter, on November 12, 2022, a second strong earthquake followed in the Bajhang district.³⁴ The International Federation of Red Cross/Red Crescent Societies reported that as of November 14, 2022, affected people were living in the open and were in need of emergency shelter, as well as improved access to water, sanitation and hygiene, psychosocial support and protection services.³⁵ As recently as January 24, 2023, another 5.9 magnitude earthquake struck Bajura district in the Sudurpaschim province.³⁶ Reports indicate that this earthquake resulted in damage to approximately 400 houses and the displacement of over 40 families.³⁷ A 2018 World Bank study based on interviews with displaced persons from three villages indicated continuing vulnerabilities due to environmental degradation.³⁸ That study, conducted during the monsoon season in 2018 (June to October), found that there were “[i]ncreased landslide risks due to road/tunnel constructions for hydropower projects” and that [p]eople in hazard-prone areas need[ed] safe/adequate land through monsoon seasons.” ³⁹ It also found that “[a]nalysis demonstrate[ed] that no clear relocation plan for displaced people exist[ed], and that livelihood opportunities in new re-settlement areas receiv[ed] no attention.” ⁴⁰ Further, according to a 2021 study in open access journal Progress in Disaster Science, mapping showed that the landslide hazard in the fourteen worst-affected districts remained significantly higher than on the day of the earthquake in 2015.⁴¹ While some areas experienced a degree of stabilization, new areas experienced landslides and others continued to develop risk of landslides.⁴² The study emphasized that it should be expected that the levels of landslide risk in these areas will remain elevated for at least “several more years.” ⁴³

³³ Doti Earthquake Response, NRCS, Nov. 18, 2022, available at: https://reliefweb.int/report/nepal/doti-earthquake-response (last visited: Mar. 10, 2023).

³⁴ Far Western Earthquake Response in Nepal DREF Application, International Foundation of Red Cross/Red Crescent Societies, Nov. 18, 2022, available at: https://reliefweb.int/report/nepal/nepal-far-western-earthquake-response-nepal-dref-application-mdrnp013 (last visited Mar. 10, 2023).

³⁵ Far Western Earthquake Response in Nepal DREF Application, International Foundation of Red Cross/Red Crescent Societies, Nov. 18, 2022, available at: https://reliefweb.int/report/nepal/nepal-far-western-earthquake-response-nepal-dref-application-mdrnp013 (last visited Mar. 10, 2023).

³⁶ 5.9 M earthquake with epicentre in Bajura recorded, Kathmandu Post, Jan. 24, 2023, available at: https://kathmandupost.com/national/2023/01/24/5-9-m-earthquake-with-epicentre-in-bajura-recorded (last visited Mar. 10, 2023).

³⁷ HRRP Bulletin, Housing Recovery and Reconstruction Platform—Nepal, Feb. 1, 2023, available at: https://reliefweb.int/report/nepal/nepal-hrrp-bulletin-31-january-2023 (last visited Mar. 10, 2023).

³⁸ Kerstin Rieger, Multi-hazards, displaced people's vulnerability and resettlement: Post-earthquake experiences from Rasuwa district in Nepal and their connections to policy loopholes and reconstruction practices, Progress in Disaster Science, Oct. 2021, available at: https://www.sciencedirect.com/science/article/pii/S2590061721000478 (last visited Mar. 10, 2023).

³⁹ Kerstin Rieger, Multi-hazards, displaced people's vulnerability and resettlement: Post-earthquake experiences from Rasuwa district in Nepal and their connections to policy loopholes and reconstruction practices, Progress in Disaster Science, Oct. 2021, available at: https://www.sciencedirect.com/science/article/pii/S2590061721000478 (last visited Mar. 10, 2023).

⁴⁰ Kerstin Rieger, Multi-hazards, displaced people's vulnerability and resettlement: Post-earthquake experiences from Rasuwa district in Nepal and their connections to policy loopholes and reconstruction practices, Progress in Disaster Science, Oct. 2021, available at: https://www.sciencedirect.com/science/article/pii/S2590061721000478 (last visited Mar. 10, 2023).

⁴¹ Nick Rosser, et al., Changing significance of landslide hazard and risk after the 2015 Mw 7.8 Gorkha, Nepal Earthquake, Progress in Disaster Science, April 2021, available at: https://www.sciencedirect.com/science/article/pii/S2590061721000193 (last visited: Mar. 10, 2023).

⁴² Nick Rosser, et al., Changing significance of landslide hazard and risk after the 2015 Mw 7.8 Gorkha, Nepal Earthquake, Progress in Disaster Science, April 2021, available at: https://www.sciencedirect.com/science/article/pii/S2590061721000193 (last visited: Mar. 10, 2023).

⁴³ Nick Rosser, et al., Changing significance of landslide hazard and risk after the 2015 Mw 7.8 Gorkha, Nepal Earthquake, Progress in Disaster Science, April 2021, available at: https://www.sciencedirect.com/science/article/pii/S2590061721000193 (last visited: Mar. 10, 2023).

Both droughts and heavy monsoon floods, made more frequent by climate change, have drastically increased food insecurity in areas of the country that were most heavily affected by the 2015 earthquake while also significantly slowing Nepal's reconstruction efforts by causing increasingly severe damage to existing infrastructure.⁴⁴ In December 2022, UNICEF published a report indicating that the prolonged monsoon season triggered disasters, including floods and landslides, claiming more than 1,200 lives and affecting over 2,321 households across the country in the previous year.⁴⁵

⁴⁴ Sangam Prasain and Mohan Budhaair, Fertiliser shortage, drought, heat wave threaten Nepal's farming future, Asia News Network, Aug. 31, 2022, available at: https://asianews.network/fertiliser-shortage-drought-heat-wave-threaten-nepals-farming-future/ (last visited: Mar. 10, 2023); Nepal Development Update, World Bank Group, Oct. 6, 2022, available at: https://thedocs.worldbank.org/en/doc/a27ca3a08e77befb785fc6742708a56c-0310012022/original/Nepal-Development-Update-October-2022.pdf (last visited: Mar. 10, 2023); Poudel S, Funakawa S, Shinjo H., Household Perceptions about the Impacts of Climate Change on Food Security in the Mountainous Region of Nepal, Sustainability, 2017, https://doi.org/10.3390/su9040641 (last visited Mar. 31, 2023); 2015 Nepal Earthquake: Facts, FAQS, and how to help, World Vision, April 3, 2018, https://www.worldvision.org/disaster-relief-news-stories/2015-nepal-earthquake-facts#:~:text=by%20Crislyn%20FelisildaWhere%20did%20the%202015%20Nepal%20earthquake%20strike%3F,%2C%20Bangladesh%2C%20and%20southern%20Tibet (last visited Mar. 31, 2023).

⁴⁵ Nepal Humanitarian Situation Report No. 3, 1 January—30 December 2022, UNICEF, Dec. 30, 2022, available at: https://reliefweb.int/report/nepal/unicef-nepal-humanitarian-situation-report-no-3-1-january-30-december-2022 (last visited Feb. 10, 2023).

Furthermore, Nepal continues to experience housing insecurity after the 2015 earthquake that is evidence of the continued disruption in living conditions that temporarily impacts the country's ability to handle the return of its nationals granted TPS. Nepal's National Reconstruction Authority (NRA) was disbanded on December 26, 2021, despite the fact that it had not fully completed reconstruction of damage caused by the 2015 earthquake.⁴⁶ Local news reports indicate that a delay in the release of NRA funding led to incomplete settlements being built, leaving people without homes or with partly completed dwellings that lacked roofs and other necessities.⁴⁷ Incomplete rebuilding is more prevalent in areas where poor and vulnerable populations live.⁴⁸ This has led to many internally displaced persons (IDP) remaining in camps or informal settlements because their homes were not rebuilt or remain vulnerable to environmental disasters, or because they did not hold title to the homes they were living in at the time of the 2015 earthquake.⁴⁹

⁴⁶ See e.g., Tika Prasad Bhatta, Integrated settlements meant for earthquake victims left incomplete in Ramechhap, The Kathmandu Post, Feb. 15, 2021, available at: https://kathmandupost.com/province-no-3/2021/02/15/integrated-settlements-meant-for-earthquake-victims-left-incomplete-in-ramechhap (last visited: Mar. 10, 2023); Rastriya Samachar Samiti, NRA's term comes to an end, The Himalayan Times, available at: https://thehimalayantimes.com/nepal/nras-term-comes-to-an-end (last visited: Mar. 10, 2023).

⁴⁷ Tika Prasad Bhatta, Integrated settlements meant for earthquake victims left incomplete in Ramechhap, The Kathmandu Post, Feb. 15, 2021, available at: https://kathmandupost.com/province-no-3/2021/02/15/integrated-settlements-meant-for-earthquake-victims-left-incomplete-in-ramechhap (last visited: Mar. 10, 2023)

⁴⁸ See e.g., Tika Prasad Bhatta, Integrated settlements meant for earthquake victims left incomplete in Ramechhap, The Kathmandu Post, Feb. 15, 2021, available at: https://kathmandupost.com/province-no-3/2021/02/15/integrated-settlements-meant-for-earthquake-victims-left-incomplete-in-ramechhap (last visited: Mar. 10, 2023); The poorest are the hardest hit in rural Nepal, World Bank Blogs, May 05, 2015, https://blogs.worldbank.org/endpovertyinsouthasia/poorest-are-hardest-hit-rural-nepal (last visited Mar. 31, 2023).

⁴⁹ 2022 Country Report on Human Rights Practices: Nepal, US Department of State, March 20, 2023, https://www.ecoi.net/en/document/2089245.html (last visited: April 6, 2023).

In addition to the subsequent environmental events following the 2015 earthquake, Nepal continues to experience serious food insecurity, health-infrastructure concerns, and agricultural instability that render Nepal temporarily unable to handle the return of its nationals granted TPS. An August 2020 NIH article noted that Nepal's “already strained health system was worsened” by the 2015 earthquakes and highlighted the continuing impact of the earthquakes on vulnerable populations, which were further impacted by COVID.⁵⁰ Additionally, a 2021 Penn State Department of Agricultural Sciences study found that heavy monsoon rains compounded food insecurity in areas most affected by the 2015 earthquake, likely due to increased landslides, which damaged roads, disrupted distribution of food aid, and destroyed agricultural land and assets.⁵¹

⁵⁰ Bipin Adhikari, et al., Earthquake rebuilding and response to COVID-19 in Nepal, a country nestled in multiple crises, Journal of Global Health, Aug. 23, 2020, available at: https://www.ncbi.nlm.nih.gov/pmc/articles/PMC7567410 (last visited: Mar. 10, 2023).

⁵¹ Heather Randell, et al., Food insecurity and compound environmental shocks in Nepal: Implications for a changing climate, World Development, September 2021, available at: https://www.sciencedirect.com/science/article/abs/pii/S0305750X21001236 (last visited: Mar. 10, 2023).

In October 2022, Nepal experienced widespread damage in many regions as a result of flooding and landslides that occurred after heavy rainfall.⁵² In Lumbini Province alone, more than 8,000 households were impacted by flooding with over 1,000 displaced.⁵³ As a result of floods, at least 33 people died, while at least 22 people remain missing.⁵⁴ The flooding and numerous landslides resulting from the storm destroyed critical infrastructure, including sections of major highways and market access roads, all of which continue to further affect food security and impede post-earthquake recovery in these especially vulnerable areas.⁵⁵

⁵² Nepal: Disruptions due to flooding and landslides ongoing in multiple regions as of Oct. 11, Crisis24, Oct. 11, 2022, available at: https://crisis24.garda.com/alerts/2022/10/nepal-disruptions-due-to-flooding-and-landslides-ongoing-in-multiple-regions-as-of-oct-11 (last visited: Mar. 10, 2023).

⁵³ Nepal: Disruptions due to flooding and landslides ongoing in multiple regions as of Oct. 11, Crisis24, Oct. 11, 2022, available at: https://crisis24.garda.com/alerts/2022/10/nepal-disruptions-due-to-flooding-and-landslides-ongoing-in-multiple-regions-as-of-oct-11 (last visited: Mar. 10, 2023).

⁵⁴ At least 33 killed in Nepal flooding and landslides, BBC, Oct. 12, 2022, available at: https://www.bbc.com/news/world-asia-63224454 (last visited: Mar. 10, 2023).

⁵⁵ Sunir Pandey, Flooding affects millions in Bangladesh, India and Nepal, UNICEF, Aug. 21, 2017, available at: https://www.unicef.org/stories/flooding-affects-millions-bangladesh-india-and-nepal (last visited Mar. 10, 2023).

The destruction of agricultural lands and disruption of supply chains due to these road blockages have resulted in shortages and price increases of key staples. This has exacerbated recent dramatic rises in the price of key staples resulting from Russia's war on Ukraine,⁵⁶ which has resulted in global food, fuel, and fertilizer shortages and rising food prices around the world, which have impacted Nepal with particular severity.⁵⁷ The war has posed new threats to Nepal's food security and economy, both of which have struggled to stabilize under the impacts of the COVID-19 pandemic, environmental shocks, and above-average global food prices.⁵⁸ While food security conditions in Nepal have improved in recent years, “nearly 3.9 million people—approximately 13 percent of the country's population—were experiencing food insecurity as of June 2022. . . Additionally, an estimated 33 percent of Nepali children ages 6-23 months did not meet the recommended minimum standards for dietary diversity and nutrient intake.” ⁵⁹

⁵⁶ See e.g., Lekhanath Pandey Kathmandu, Ukraine conflict intensifies Nepal's economic woes, DW, April 15, 2022, available at: https://www.dw.com/en/ukraine-conflict-intensifies-nepals-economic-woes/a-61488700 (last visited Mar. 10, 2023).

⁵⁷ See e.g., Lekhanath Pandey Kathmandu, Ukraine conflict intensifies Nepal's economic woes, DW, April 15, 2022, available at: https://www.dw.com/en/ukraine-conflict-intensifies-nepals-economic-woes/a-61488700 (last visited Mar. 10, 2023).

⁵⁸ See e.g., Lekhanath Pandey Kathmandu, Ukraine conflict intensifies Nepal's economic woes, DW, April 15, 2022, available at: https://www.dw.com/en/ukraine-conflict-intensifies-nepals-economic-woes/a-61488700 (last visited Mar. 10, 2023); Kristine Eck, Nepal in 2021: From Bad to Worse, University of California Press, Feb. 09, 2022, https://doi.org/10.1525/as.2022.62.1.19 (last visited Mar. 31, 2023).

⁵⁹ Nepal Assistance Overview, USAID Bureau for Humanitarian Assistance, November 2022, available at: https://www.usaid.gov/humanitarian-assistance/nepal (last visited Mar. 17, 2023).

The global fertilizer shortage resulting from the Ukraine conflict has left Nepal, a country heavily reliant on imports, unable to supply the necessary fertilizers for its farmers.⁶⁰ A significant portion of this year's agricultural productivity was lost before the planting season even began, with many farmers opting not to plant, given the challenges with obtaining sufficient fertilizer to make commercial farming feasible.⁶¹

⁶⁰ Sangam Prasain, et al., Farmers reduce acreage for lack of adequate fertilizer, The Kathmandu Post, July 29, 2022, available at: https://kathmandupost.com/money/2022/07/29/farmers-reduce-acreage-for-lack-of-adequate-fertiliser (last visited Mar. 10, 2023); Sangam Prasain, Crippling fertiliser shortage clouds Paddy Day celebrations for thousands of farmers, The Kathmandu Post, June 29, 2022, available at: https://kathmandupost.com/money/2022/06/29/crippling-fertiliser-shortage-clouds-paddy-day-celebrations-for-thousands-of-farmers (last visited Mar. 10, 2023); Sangam Prasain and Mohan Budhaair, Fertiliser shortage, drought, heat wave threaten Nepal's farming future, The Kathmandu Post, Aug. 31, 2022, available at: https://asianews.network/fertiliser-shortage-drought-heat-wave-threaten-nepals-farming-future/(last visited Mar. 10, 2023).

⁶¹ Sangam Prasain, et al., Farmers reduce acreage for lack of adequate fertilizer, The Kathmandu Post, July 29, 2022, available at: https://kathmandupost.com/money/2022/07/29/farmers-reduce-acreage-for-lack-of-adequate-fertiliser (last visited: Mar. 10, 2023); Sangam Prasain, Crippling fertiliser shortage clouds Paddy Day celebrations for thousands of farmers, The Kathmandu Post, June 29, 2022, available at: https://kathmandupost.com/money/2022/06/29/crippling-fertiliser-shortage-clouds-paddy-day-celebrations-for-thousands-of-farmers (last visited: Mar. 10, 2023); Sangam Prasain and Mohan Budhaair, Fertiliser shortage, drought, heat wave threaten Nepal's farming future, The Kathmandu Post, Aug. 31, 2022, available at: https://asianews.network/fertiliser-shortage-drought-heat-wave-threaten-nepals-farming-future/(last visited: Mar. 10, 2023).

Rising inflation, currently at a new, six-year high of 8.64 percent in September, and fuel prices that have remained about 50% higher this year have already contributed to growing food prices and heightened risk of food insecurity.⁶² Prices have risen across nearly all commodities, and the cost of the household food basket is around 10% higher nationally than a year ago, and as much as 27% higher in some of the most isolated and disaster-affected regions, raising concerns about the immediate and longer-term impacts on Nepal's economic growth, stability, and food security.⁶³ High inflation rates and recent interest rate hikes by Nepal's central bank compound the effects of an ongoing liquidity crunch, constraining access to finance and hampering economic growth and completion of water projects that would address Nepal's environmental vulnerabilities.⁶⁴ Given the high level of household-level poverty and the high share of food spending—representing as much as two-thirds of the total income for poor families—the ongoing war and food inflation will continue to stress an already volatile food security and nutrition situation.⁶⁵ A 2021 UNICEF report indicated that 17.4 percent of Nepalese are poor on a multidimensional poverty index, so over one in six Nepalese—five million people—are under serious threat due to ongoing food inflation on top of previous economic and environmental stressors.⁶⁶

⁶² Nepal Multidimensional Poverty Index 2021: Report, UNICEF, Sept. 2021, available at: https://www.unicef.org/nepal/reports/nepal-multidimensional-poverty-index-2021-report (last visited Mar. 10, 2023).

⁶³ Nepal Multidimensional Poverty Index 2021: Report, UNICEF, Sept. 2021, available at: https://www.unicef.org/nepal/reports/nepal-multidimensional-poverty-index-2021-report (last visited Mar. 10, 2023).

⁶⁴ Nepal Multidimensional Poverty Index 2021: Report, UNICEF, Sept. 2021, available at: https://www.unicef.org/nepal/reports/nepal-multidimensional-poverty-index-2021-report (last visited Mar. 10, 2023); Development projects suffer from funds crunch as government revenue takes hit, The Kathmandu Post, https://kathmandupost.com/national/2023/01/05/development-projects-suffer-from-funds-crunch-as-government-revenue-takes-hit (last visited Mar. 31, 2023).

⁶⁵ Nepal Multidimensional Poverty Index 2021: Report, UNICEF, Sept. 2021, available at: https://www.unicef.org/nepal/reports/nepal-multidimensional-poverty-index-2021-report (last visited Mar. 10, 2023).

⁶⁶ Nepal Multidimensional Poverty Index 2021: Report, UNICEF, Sept. 2021, available at: https://www.unicef.org/nepal/reports/nepal-multidimensional-poverty-index-2021-report (last visited: Nov. 22, 2022).

Due to the triple threat of global economic effects, dire environmental shocks, and the lingering impacts of the COVID-19 pandemic, more poor households are expected to slip into poverty across the country, erasing years of hard-won development gains.⁶⁷ According to the International Food Policy Research Institute (IFPRI), Nepal's poverty rate is expected to rise by 4.5 percent, pushing more than 1.27 million people into poverty this year.⁶⁸ Labor migration emerges as a primary coping strategy for Nepalese during times of hardship, with households and the economy relying heavily on remittances.⁶⁹

⁶⁷ Xinshen Diao, et al., Nepal: Impacts of the Ukraine and Global Crises on Poverty and Food Security, International Food Policy Research, July 7, 2022, available at: https://ebrary.ifpri.org/utils/getfile/collection/p15738coll2/id/135953/filename/136162.pdf (last visited Mar. 10, 2023).

⁶⁸ Xinshen Diao, et al., Nepal: Impacts of the Ukraine and Global Crises on Poverty and Food Security, International Food Policy Research, July 7, 2022, available at: https://ebrary.ifpri.org/utils/getfile/collection/p15738coll2/id/135953/filename/136162.pdf (last visited: Dec. 8, 2022).

⁶⁹ Sangam Prasain, Remittance hits Rs961 billion, an all-time high in the time of Covid-19, The Kathmandu Post, Aug. 22, 2021, available at: https://kathmandupost.com/money/2021/08/22/remittance-hits-rs961-billion-an-all-time-high-in-the-time-of-covid-19 (last visited: Mar. 10, 2023); Rohan Byanjankar and Mira Sakha, Impact of Remittances on Rural Poverty in Nepal: Evidence from Cross-Section Data, NRB, Aug. 2021, available at: https://www.nrb.org.np/contents/uploads/2021/08/NRB-WP-53-Impact-of-Remittances-Rohan-and-Mira-1.pdf (last visited: Nov. 22, 2022).

In summary, Nepal's slow recovery after the 2015 earthquake and more recent environmental disasters, including devastating floods, further earthquakes, and landslides, continue to disrupt living conditions and render Nepal temporarily unable to handle the return of those granted TPS. Since the disastrous earthquake in 2015, Nepal has continued to be encumbered by significant environmental events that have hindered Nepal's recovery. The subsequent environmental disasters and the associated macroeconomic shocks have impeded the recovery process, and as a result, there continues to be a substantial disruption of living conditions. Soaring food and fuel prices further exacerbate the situation. Nepal continues to lack the infrastructure and capacity to adequately handle the return of Nepalese nationals (as well as others with no nationality who last habitually resided there) who were granted TPS under the 2015 designation and are currently residing in the United States.

Based upon this review and after consultation with appropriate U.S. Government agencies, the Secretary has determined that:

• The conditions supporting Nepal's designation for TPS continue to be met. See INA section 244(b)(3)(A) and (C), 8 U.S.C. 1254a(b)(3)(A) and (C).

• There has been an earthquake, flood, drought, epidemic, or other environmental disaster in Nepal resulting in a substantial, but temporary, disruption of living conditions in the area affected; Nepal is unable, temporarily, to handle adequately the return of its nationals; and Nepal has officially requested designation of TPS. See INA section 244(b)(1)(B)(i), 8 U.S.C. 1254a(b)(1)(B)(i);

• The designation of Nepal for TPS should be extended for an 18-month period, beginning on December 25, 2023, and ending on June 24, 2025. See INA section 244(b)(3)(C), 8 U.S.C. 1254a(b)(3)(C).

• There are approximately 14,500 current Nepal TPS beneficiaries who are expected to be eligible to re-register for TPS under the extension.

Notice of the Rescission of TPS Termination and Extension and Redesignation of Nepal for TPS

Pursuant to my lawful authorities, including under sections 103(a) and 244 of the Immigration and Nationality Act, I am hereby rescinding the termination of the TPS designation of Nepal announced in the Federal Register at 83 FR 23705 (May 2018). Due to this rescission and pursuant to section 244(b)(3)(C) as well as the ongoing stay of proceedings order and approval of the parties' stipulation in Bhattarai, the TPS designation of Nepal has continued to exist since June 24, 2018, without a standing secretarial determination as to whether TPS should be extended or terminated. TPS beneficiaries under the designation, whose TPS has not been finally withdrawn for individual ineligibility, therefore have continued to maintain their TPS since June 24, 2018.

By the authority vested in me as Secretary under INA section 244, 8 U.S.C. 1254a, I have determined, after consultation with the appropriate U.S. Government agencies, the statutory conditions supporting Nepal's designation for TPS on the basis of environmental disaster are met. See INA section 244(b)(1)(B), 8 U.S.C. 1254a(b)(1)(B) and section 244(b)(3)(A); 8 U.S.C. 1254a(b)(3)(A). On the basis of this determination, I am extending the existing designation of Nepal for TPS for 18 months, beginning on December 25, 2023, and ending on June 24, 2025. See INA section 244(b)(3)(C), 8 U.S.C. 1254a(b)(3)(C). Individuals holding TPS under the designation of Nepal may file to reregister for TPS under the procedures announced in this notice if they wish to continue their TPS under this 18-month extension.

Alejandro N. Mayorkas,
Secretary, U.S. Department of Homeland Security.

Eligibility and Employment Authorization for TPS

Required Application Forms and Application Fees to Re-Register for TPS

To re-register for TPS based on the designation of Nepal, you must submit a Form I-821, Application for Temporary Protected Status during the 60-day reregistration period that begins on October 24, 2023 and ends on December 23, 2023. There is no Form I-821 fee for re-registration. See 8 CFR 244.17. You may be required to pay the biometric services fee. If you can demonstrate an inability to pay the biometric services fee, you may request to have the fee waived. Please see additional information under the “Biometric Services Fee” section of this notice.

Individuals who have a Nepal TPS application (Form I-821) that was still pending as of June 21, 2023 do not need to file the application again. If USCIS approves an individual's Form I-821, USCIS will grant the individual TPS through June 24, 2025.

Required Application Forms and Application Fees to Obtain an EAD

Every employee must provide their employer with documentation showing they have a legal right to work in the United States. TPS beneficiaries are authorized to work in the United States and are eligible for an EAD which proves their employment authorization. If you have an existing EAD issued under the TPS designation of Nepal that has been auto-extended through June 30, 2024, by the notice published at 87 FR 68717, you may continue to use that EAD through that date. If you want to obtain a new EAD valid through June 24, 2025, you must file an Application for Employment Authorization (Form I-765) and pay the Form I-765 fee (or request a fee waiver, which you may submit on Form I-912, Request for Fee Waiver).

You may, but are not required to, submit Form I-765, Application for Employment Authorization, with your Form I-821 re-registration application. If you do not want a new EAD now, you can request one later by filing your I-765 and paying the fee (or requesting a fee waiver) at that time, provided you have TPS or a pending TPS application. If you have TPS and only a pending Form I-765, you must file the Form I-821 to reregister for TPS or risk having your TPS withdrawn for failure to reregister without good cause.

Information About Fees and Filing

USCIS offers the option to applicants for TPS under Nepal's designation to file Form I-821 and related requests for EADs online or by mail. When filing a TPS application, applicants can also request an EAD by submitting a completed Form I-765, with their Form I-821.

Online filing: Form I-821 and I-765 are available for concurrent filing online.⁷⁰ To file these forms online, you must first create a USCIS online account.⁷¹

⁷⁰ Find information about online filing at “Forms Available to File Online,” https://www.uscis.gov/file-online/forms-available-to-file-online.

⁷¹ https://myaccount.uscis.gov/users/sign_up.

Mail filing: Mail your application for TPS to the proper address in Table 1.

Table 1—Mailing Addresses

Mail your completed Form I-821, Application for Temporary Protected Status and Form I-765, Application for Employment Authorization, Form I-912, Request for Fee Waiver, if applicable, and supporting documentation to the proper address in Table 1.

Table 1—Mailing Addresses
If you live in: | Then mail your application to:
• Connecticut | USCIS Elgin Lockbox.
• Delaware • District of Columbia • Maine • Maryland • Massachusetts • New Hampshire | U.S. Postal Service (USPS): USCIS, Attn: TPS Nepal, P.O. Box 4091, Carol Stream, IL 60197-4091. FedEx, UPS, or DHL: USCIS, Attn: TPS Nepal (Box 4091), 2500 Westfield Drive, Elgin, IL 60124-7836.
• New York
• North Carolina
• Pennsylvania
• Rhode Island
• Texas
• Vermont
• Virginia
• West Virginia
• Alabama | USCIS Phoenix Lockbox.
• Alaska • American Samoa • Arizona • Arkansas • California • Colorado • Florida | U.S. Postal Service (USPS): USCIS, Attn: TPS Nepal, P.O. Box 21800, Phoenix, AZ 85036-1800. FedEx, UPS, or DHL: USCIS, Attn: TPS Nepal (Box 21800), 2108 E. Elliot Rd., Tempe, AZ 85284-1806.
• Georgia
• Guam
• Hawaii
• Idaho
• Louisiana
• Mississippi
• Montana
• Nevada
• New Mexico
• Northern Mariana Islands
• Oklahoma
• Oregon
• Puerto Rico
• South Carolina
• Utah
• Virgin Islands
• Washington
• Wyoming
• Illinois | USCIS Chicago Lockbox.
• Indiana • Iowa • Kansas • Kentucky • Michigan • Minnesota • Missouri | U.S. Postal Service (USPS): USCIS, Attn: TPS Nepal, P.O. Box 6943, Chicago, IL 60680-6943. FedEx, UPS, or DHL: USCIS, Attn: TPS Nepal (Box 6943), 131 S. Dearborn St., 3rd Floor, Chicago, IL 60603-5517.
• Nebraska
• North Dakota
• Ohio
• South Dakota
• Tennessee
• Wisconsin

If you were granted TPS by an immigration judge (IJ) or the Board of Immigration Appeals (BIA) and you wish to request an EAD, please mail your Form I-765 application to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (i.e., registering) for TPS on the USCIS website at https://www.uscis.gov/tps under “Nepal.”

Travel

TPS beneficiaries may also apply for and be granted travel authorization as a matter of discretion. You must file for travel authorization if you wish to travel outside of the United States. If granted, travel authorization gives you permission to leave the United States and return during a specific period. To request travel authorization, you must file Form I-131, Application for Travel Document, available at https://www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are | Mail to
Filing Form I-131 together with a Form I-821, Application for Temporary Protected Status. | The address provided in Table 1.
Filing Form I-131 based on a pending or approved Form I-821, and you are using the U.S. Postal Service (USPS): | USCIS, Attn: I-131 TPS, P.O. Box 660167, Dallas, TX 75266-0867.
You must include a copy of the receipt notice (Form I-797 or I-797C) showing we accepted or approved your Form I-821.
Filing Form I-131 based on a pending or approved Form I-821, and you are using FedEx, UPS, or DHL: | USCIS, Attn: I-131 TPS, 2501 S. State Hwy. 121 Business, Ste. 400, Lewisville, TX 75067.
You must include a copy of the receipt notice (Form I-797 or I-797C) showing we accepted or approved your Form I-821.

Biometric Services Fee for TPS:

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at https://www.uscis.gov/tps. If necessary, you may be required to visit an Application Support Center to have your biometrics captured. For additional information on the USCIS biometric screening process, please see the USCIS Customer Profile Management Service Privacy Impact Assessment, available at https://www.dhs.gov/publication/dhsuscispia-060-customer-profile-management-service-cpms.

Refiling a TPS Re-Registration Application After Receiving a Denial of a Fee Waiver Request

You should file as soon as possible within the 60-day re-registration period so USCIS can process your application and issue your EAD promptly, if one has been requested. Properly filing early will also allow you to have time to refile your application before the deadline, should USCIS deny your fee waiver request. The fee waiver denial notice will contain specific instructions about resubmitting your application. However, you are urged to refile within 45 days of the date on any USCIS fee waiver denial notice, if possible. See INA section 244(c)(3)(C); 8 U.S.C. 1254a(c)(3)(C); 8 CFR 244.17(b). For more information on good cause for late re-registration, visit the USCIS TPS web page at www.uscis.gov/tps.

Note: A re-registering TPS beneficiary age 14 and older must pay the biometric services fee (but not the Form I-821 fee), or request a fee waiver, when filing a TPS re-registration application. As discussed above, if you decide to wait to request an EAD, you do not have to file the Form I-765 or pay the associated Form I-765 fee (or request a fee waiver) at the time of re-registration. You may wait to seek an EAD until after USCIS has approved your TPS re-registration application or at any later date you decide you want to request an EAD. To re-register for TPS, you only need to file the Form I-821 with the biometrics services fee, if applicable, (or request a fee waiver).

General Employment-Related Information for TPS Applicants and Their Employers

How can I obtain information on the status of my TPS application and EAD request?

To get case status information about your TPS application, as well as the status of your TPS-based EAD request, you can check Case Status Online at uscis.gov, or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at https://www.uscis.gov/I-9Central. An EAD is an acceptable document under List A.

If I have an EAD based on another immigration status, can I obtain a new TPS-based EAD?

Yes, if you are eligible for TPS, you can obtain a new TPS-based EAD, regardless of whether you have an EAD or work authorization based on another immigration status. If you want to obtain a new TPS-based EAD valid through June 24, 2025, then you must file Form I-765, Application for Employment Authorization, and pay the associated fee (unless USCIS grants your fee waiver request).

Can my employer require that I provide any other documentation such as evidence of my status or proof of my Nepalese citizenship or a Form I-797C showing that I registered for TPS for Form I-9 completion?

No. When completing Form I-9, employers must accept any documentation you choose to present from the Form I-9 Lists of Acceptable Documents that reasonably appears to be genuine and that relates to you, or an acceptable List A, List B, or List C receipt. Employers need not reverify List B identity documents. Employers may not request proof of Nepalese citizenship or proof of registration for TPS when completing Form I-9 for new hires or reverifying the employment authorization of current employees. Refer to the “Note to Employees” section of this Federal Register notice for important information about your rights if your employer rejects lawful documentation, requires additional documentation, or otherwise discriminates against you based on your citizenship or immigration status, or your national origin. Employers can refer to the compliance notice that DHS published on November 16, 2022, for information on how to complete the Form I-9 with TPS EADs that DHS extended through June 30, 2024.⁷²

⁷² Continuation of Documentation for Beneficiaries of Temporary Protected Status Designations for El Salvador, Haiti, Nicaragua, Sudan, Honduras, and Nepal, 87 FR 68717 (Nov. 16, 2022).

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (mismatch) must promptly inform employees of the mismatch and give such employees an opportunity to take action to resolve the mismatch. A mismatch result means that the information entered into E-Verify from Form I-9 differs from records available to DHS.

Employers may not terminate, suspend, delay training, withhold or lower pay, or take any adverse action against an employee because of a mismatch while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/crt/immigrant-and-employee-rights-section and the USCIS and E-Verify websites at https://www.uscis.gov/i-9-central and https://www.e-verify.gov.

Note Regarding Federal, State, and Local Government Agencies (Such as Departments of Motor Vehicles)

This Federal Register Notice does not invalidate the compliance notice DHS issued on November 16, 2022, which extended the validity of certain TPS documentation through June 30, 2024 and does not require individuals to present a Form I-797, Notice of Action. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or that may be used by DHS to determine if you have TPS or another immigration status. Examples of such documents are:

• Your current EAD with a TPS category code of A-12 or C-19, even if your country of birth noted on the EAD does not reflect the TPS designated country of Nepal; or

• Your Form I-94, Arrival/Departure Record or Form I-797, Notice of Action, as shown in the Federal Register notice published at 87 FR 68717.

Check with the government agency requesting documentation regarding which document(s) the agency will accept. Some state and local government agencies use the SAVE program to confirm the current immigration status of applicants for public benefits.

While SAVE can verify that an individual has TPS, each state and local government agency's procedures govern whether they will accept an unexpired EAD, Form I-797, Form I-797C, or Form I-94. It may also assist the agency if you:

a. Give the agency a copy of the relevant Federal Register notice listing the TPS-related document, including any applicable auto-extension of the document, in addition to your recent TPS-related document with your A-number, USCIS number or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or any automatic extension of TPS-related documentation. In most cases, SAVE provides an automated electronic response to benefit-granting agencies within seconds, but occasionally verification can be delayed.

You can check the status of your SAVE verification by using CaseCheck at https://save.uscis.gov/casecheck/. CaseCheck is a free service that lets you follow the progress of your SAVE verification case using your date of birth and one immigration identifier number (A-number, USCIS number, or Form I-94 number) or Verification Case Number. If an agency has denied your application based solely or in part on a SAVE response, the agency must offer you the opportunity to appeal the decision in accordance with the agency's procedures. If the agency has received and acted on or will act on a SAVE verification and you do not believe the SAVE response is correct, the SAVE website, www.uscis.gov/save, has detailed information on how to correct or update your immigration record, make an appointment, or submit a written request to correct records.

[FR Doc. 2023-13019 Filed 6-20-23; 8:45 am]

BILLING CODE 9111-97-P